DEPARTMENT OF COMMERCE

National Oceanic and Atmospheric Administration

RIN 0648-XR67

Endangered and Threatened Species; Take of Anadromous Fish

AGENCY: National Marine Fisheries Service (NMFS), National Oceanic and Atmospheric Administration (NOAA), Commerce.

ACTION: Applications for two scientific research permit renewals and one permit modification.

SUMMARY: Notice is hereby given that NMFS has received three scientific research permit application requests relating to Pacific salmon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on October 21, 2009.

ADDRESSES: Written comments on the applications should be sent to the Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available from the address above, or online at apps.nmfs.noaa.gov.

SUPPLEMENTARY INFORMATION:

Species Covered in This Notice

The following listed species are covered in this notice:

Chinook salmon (Oncorhynchus tshawytscha): threatened lower Columbia River (LCR), threatened upper Willamette River (UWR), endangered upper Columbia River (UCR), threatened Snake River (SR) spring/summer (spr/sum), threatened SR fall.

Chum salmon (O. keta): threatened Columbia River (CR).

Steelhead (O. mykiss): threatened LCR, threatened UWR, threatened middle Columbia River (MCR), threatened SR, threatened UCR.

Coho salmon (O. kisutch): threatened LCR, threatened Oregon Coast (OC).

Sockeye salmon (O. nerka): endangered SR.

Authority

Scientific research permits are issued in accordance with section 10(a)(1)(A) of the ESA (16 U.S.C. 1531 et. seq) and regulations governing listed fish and wildlife permits (50 CFR parts 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1523-2R

The National Council of Air and Stream Improvements (NCASI) is seeking to renew its permit to annually take listed salmon while conducting research in the McKenzie and Willamette rivers in Oregon. The NCASI is requesting another 5-year permit to take juvenile UWR Chinook salmon while studying water quality and biological conditions in rivers receiving paper- and pulp mill discharges. The research will provide information on existing conditions in the watersheds and on changes in those conditions over time, and ultimately on the aquatic communities'responses to environmental stressors. The information will be used in a larger effort to monitor watershed health, water quality, and salmon recovery in the Upper Willamette watershed. The NCASI proposes to capture (using boat electrofishers), handle, and release listed salmon. The NCASI does not intend to capture adult fish but some may be in the areas being fished and will be avoided as much as possible. While most of the fish would not be harmed, some juveniles may unintentionally be killed during the course of the research.

Permit 1525-3R

The Northwest Fisheries Science Center (NWFSC) is seeking to renew its permit to annually take listed salmonids in the Lower Willamette River, Oregon, and in the Columbia River from its mouth up to Bonneville Dam. The NWFSC is requesting another 5-year permit to take juvenile SR spring/summer Chinook salmon, SR fall Chinook salmon, SR steelhead, UCR Chinook salmon, UCR steelhead, MCR steelhead, LCR Chinook salmon, LCR steelhead, UWR Chinook salmon, UWR steelhead, and CR chum salmon. The purposes of the study are to (1) determine contaminant concentrations in fish, (2) understand contaminant bioaccumulation in juvenile salmon and determine site-specific factors leading to any contamination, (3) analyze the fish for the presence of physiological biomarkers, and (4) determine if the fish exhibit any indicators of exposure to environmental estrogens. The NWFSC would collect samples with seines or high-speed rope trawls and is asking for authorization to handle juvenile fish and to intentionally kill some of them for pathogen assays, biochemical composition, histopathological attributes, and stomach content analyses.

Permit 1318-7M

Permit 1318 currently authorizes the Oregon Department of Fish and Wildlife (ODFW) to take juvenile UCR Chinook salmon, UCR steelhead, SR steelhead, SR fall-run Chinook salmon,SR spring/summer-run Chinook salmon, SR sockeye salmon, MCR steelhead, UWR Chinook salmon, UWR steelhead, LCR Chinook salmon, LCR coho salmon, LCR steelhead, CR chum salmon, and OC coho salmon in streams in the Willamette and Columbia basins, and on the Oregon coast. The ODFW is seeking to modify the permit by adding an eighth project. The application contains the following projects: (1) warm water fish management surveys; (2)investigations of natural production of spring Chinook salmon in the Mohawk basin; (3) genetic characterization of rainbow trout in the upper Willamette subbasin; (4) fish abundance,population status, genetics and disease surveys in the upper Willamette subbasin; (5) native trout surveys for abundance, size composition, and migration patterns in the mainstem McKenzie River; (6) resident redband population estimates in the Deschutes River; (7) resident redband population estimates in the Crooked River; and (8) fish population sampling in the North Willamette Watershed District. The research would benefit the fish by providing information on population structure, abundance, genetics, disease occurrence, and species interactions. That information would be used to direct management actions to benefit listed species. Juvenile salmonids would be collected (using boat electrofishing). Some fish would be anesthetized,sampled for length and weight, allowed to recover from the anesthesia, and released. Most salmonids would only be shocked and allowed to swim away, or be netted and released immediately. The ODFW does not intend to kill any of the fish being captured, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the FEDERAL REGISTER.

Dated: September 15, 2009.
Therese Conant,
Acting Division Chief, Endangered Species Division, Office of Protected Resources, National Marine Fisheries Service.

[FR Doc. E9-22652 Filed 9-18-09; 8:45 am]

BILLING CODE 3510-22-S